SOCIAL SECURITY ADMINISTRATION

[Docket No: SSA-2016-0044]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov

(SSA), Social Security Administration, OLCA, Attn: Reports Clearance Director, 3100 West High Rise, 6401 Security Blvd., Baltimore, MD 21235, Fax: 410-966-2830, Email address: OR.Reports.Clearance@ssa.gov

Or you may submit your comments online through www.regulations.gov, referencing Docket ID Number [SSA-2016-0044].

I. The information collections below are pending at SSA. SSA will submit them to OMB within 60 days from the date of this notice. To be sure we consider your comments, we must receive them no later than November 15, 2016. Individuals can obtain copies of the collection instruments by writing to the above email address.

1. Request for Corrections of Earnings Record—20 CFR 404.820 and 20 CFR 422.125—0960-0029. Individuals alleging inaccurate earnings records in SSA's files use paper Form SSA-7008, or a personal interview during which SSA employees key their answers into our electronic Earnings Modernization Item Correction system, to provide the information SSA needs to check earnings posted, and, as necessary, initiate development to resolve any inaccuracies. The respondents are individuals who request correction of earnings posted to their Social Security earnings record.

Type of Request: Revision of an OMB-approved information collection.

Modality of completion | Number of respondents | Frequency of response | Average burden per response (minute) | Estimated annual burden (hours)
Paper form | 37,500 | 1 | 10 | 6,250
In-person or telephone interview | 337,500 | 1 | 10 | 56,250
Total | 375,000 |  |  | 62,500

2. Employer Reports of Special Wage Payments—20 CFR 404.428-404.429-0960-0565. SSA collects information on the SSA-131 to prevent earnings-related overpayments, and to avoid erroneous withholding of benefits. SSA field offices and program service centers also use Form SSA-131 for awards and post-entitlement events requiring special wage payment verification from employers. While we need this information to ensure the correct payment of benefits, we do not require employers to respond. The respondents are large and small businesses that make special wage payments to retirees

Type of Request: Revision of an OMB-approved information collection.

Modality of completion | Number of respondents | Frequency of response | Average burden per response (minute) | Estimated annual burden (hours)
Paper Version: SSA-131 (without # 6) | 105,000 | 1 | 20 | 35,000
Paper Version: SSA-131 (# 6 only) | 1,050 | 1 | 2 | 35
Electronic Version: Business Services Online Special Wage Payments | 26 |  | 5 | 2
Totals | 106,076 |  |  | 35,037

II. SSA submitted the information collection below to OMB for clearance. Your comments regarding the information collection would be most useful if OMB and SSA receive them 30 days from the date of this publication. To be sure we consider your comments, we must receive them no later than October 17, 2016. Individuals can obtain copies of the OMB clearance package by writing to OR.Reports.Clearance@ssa.gov.

Certificate of Coverage Request—20 CFR 404.1913—0960-0554. The United States maintains agreements with 27 foreign countries to eliminate double Social Security coverage and taxation where, except for the provisions of the agreement, a worker would be subject to coverage and taxes in both countries. These agreements contain rules for determining the country under whose laws the worker's period of employment is covered, and to which country the worker will pay taxes. The agreements further dictate that, upon the request of the worker or employer, the country under whose system the period of work is covered will issue a certificate of coverage. The certificate serves as proof of exemption from coverage and taxation under the system of the other country. The information we collect assists us in determining a worker's coverage and in issuing a U.S. certificate of coverage as appropriate. Per our agreements, we ask a set number of questions to the workers and employers prior to issuing a certificate of coverage; however, our agreements with Denmark, Netherlands, Norway, and Sweden require us to ask more questions in those countries. Respondents are workers and employers wishing to establish exemption from foreign Social Security taxes.

Type of Request: Revision of an OMB-approved information collection.

Modality of completion | Number of respondents | Frequency of response | Average burden per response (minute) | Estimated annual burden (hours)
Requests via Letter—Individuals (minus Denmark, Netherlands, Norway, Poland & Sweden) | 6,272 | 1 | 40 | 4,181
Requests via Internet—Individuals (minus Denmark, Netherlands, Norway, Poland & Sweden) | 9,407 | 1 | 40 | 6,271
Requests via Letter—Individuals in Denmark, Netherlands, Norway, & Sweden | 280 | 1 | 44 | 205
Requests via Letter—Individuals in Poland | 16 | 1 | 41 | 11
Requests via Internet—Individuals in Denmark, Netherlands, Norway, & Sweden | 421 | 1 | 44 | 309
Requests via Internet—Individuals in Poland | 23 | 1 | 41 | 16
Requests via Letter—Employers (minus Denmark, Netherlands, Norway, Poland & Sweden) | 25,087 | 1 | 40 | 16,725
Requests via Internet—Employers (minus Denmark, Netherlands, Norway, Poland, & Sweden) | 37,632 | 1 | 40 | 25,088
Requests via Letter—Employers in Denmark, Netherlands, Norway, & Sweden | 1,121 | 1 | 44 | 822
Requests via Letter—Employers in Poland | 62 | 1 | 41 | 42
Requests via Internet—Employers in Denmark, Netherlands, Norway, & Sweden | 1,680 | 1 | 44 | 1,232
Requests via Internet—Employers in Poland | 93 | 1 | 41 | 64
Totals | 82,094 |  |  | 54,966

Dated: September 13, 2016.
Naomi R. Sipple,
Reports Clearance Officer, Social Security Administration.

[FR Doc. 2016-22277 Filed 9-15-16; 8:45 am]

BILLING CODE 4191-02-P